DEPARTMENT OF THE INTERIOR

Office of the Secretary

[23XD4523WU DS61100000 DWUE30000.000000 DX61140]

Environmental Justice Strategic Plan Draft Vision, Goals and Objectives

AGENCY: Office of the Secretary, Interior.

ACTION: Notice and request for comments.

SUMMARY: Pursuant to the Executive Order (E.O.) 14096, Revitalizing our Nation's Commitment to Environmental Justice for All, the Department of the Interior (Department) is updating its Environmental Justice Strategic Plan and soliciting feedback on its draft environmental justice vision, goals, and objectives (included in Supplemental Information). The Department is also soliciting feedback on priority actions and performance metrics the Department should evaluate to advance the draft environmental justice vision, goals, and objectives.

DATES: Interested persons are invited to provide oral feedback on the Department's draft environmental justice vision, goals, and objectives and priority actions or performance metrics the Department should evaluate to advance the draft environmental justice vision, goals, and objectives during one of three public virtual listening sessions:

Date | Time | Location | Registration link
November 30, 2023 | 3:00-4:30 p.m. ET | Virtual | https://bit.ly/generalpublicsession1.
November 30, 2023 | 6:30-8:00 p.m. ET | Virtual | https://bit.ly/generalpublicsession2.
December 1, 2023 | 3:00-4:30 p.m. ET | Virtual | https://bit.ly/generalpublicsession3.

Interested persons are also invited to provide written feedback. Consideration will be given to all comments received during the public listening sessions or postmarked by December 15, 2023. Please clearly indicate whether feedback is intended for the Department's draft vision, draft goals, and/or draft objectives, priority actions and performance metrics.

ADDRESSES:

Submitting Comments: Interested persons may submit written comments by one of the following methods:

1. By email to: Environmental_Justice@ios.doi.gov.

2. By hard copy to: Environmental Justice, U.S. Department of the Interior, Office of Environmental Policy and Compliance (MS-2629), 1849 C Street NW, Washington DC 20240.

Written submissions must include your name and reference the Department's Environmental Justice Strategic Plan. All feedback, including any personal information you provide, may be made public. Therefore, the Department cautions participants against providing information they do not want made available to the public or submitting materials that contain personal information (either about themselves or others).

Accessing Documents and Additional Information: You may access information on the Department's Environmental Justice program, information on the Environmental Justice Strategic Plan update, and the Department's current Environmental Justice Strategic Plan at the Department's environmental justice website at https://www.doi.gov/oepc/resources/environmental-justice.

FOR FURTHER INFORMATION CONTACT: Cheryl Kelly, Office of Environmental Policy and Compliance, at 202 208-7565 or by email at cheryl_kelly@ios.doi.gov. Individuals in the United States who are deaf, deafblind, hard of hearing, or have a speech disability may dial 711 (TTY, TDD, or TeleBraille) to access telecommunications relay services.

SUPPLEMENTARY INFORMATION:

Background: Executive Order 14096 directs Federal agencies to develop an Environmental Justice Strategic Plan that will “set forth the agency's vision, goals, priority actions, and metrics to address and advance environmental justice and to fulfill the directives of [the E.O.], including through the identification of new staffing, policies, regulations, or guidance documents”, as well as “identify and address opportunities through regulations, policies, permits, or other means to improve accountability and compliance with any statute the agency administers that affects the health and environment of communities with environmental justice concerns.”

To advance environmental justice, the Department established an Environmental Justice Steering Committee, made up of representatives of the Department's bureaus and offices. The Environmental Justice Steering Committee's Policy Subcommittee developed the draft environmental justice vision, goals, and objectives on which feedback is being sought by evaluating the Department's existing 2016 Environmental Justice Strategic Plan, the Department's 2022-2026 Strategic Plan, recent Executive Orders, and input received from Departmental employees in feedback sessions. The Policy Subcommittee will evaluate all oral and written feedback received on the draft environmental justice vision, goals, and objectives, as well as potential actions and performance measures to develop the draft Environmental Justice Strategic Plan.

Listening Session Format: Listening sessions will be 90 minutes. The sessions will start with an overview and then interested persons will have the opportunity to provide feedback using a variety of engagement tools. If you require a reasonable accommodation to attend a listening session, please email: Environmental_Justice@ios.doi.gov.

Draft Environmental Justice Vision, Goals, and Objectives: The Department would appreciate comments on the following questions:

1. Do the draft environmental justice vision, strategic goals, and objectives provided in the table address your interests and concerns about the advancement of environmental justice by the Department? Why or why not?

2. What actions should the Department undertake to advance environmental justice?

3. What performance measures or metrics should the Department establish to monitor progress towards advancing environmental justice?

Draft Environmental Justice Vision
To provide outstanding management of the natural and cultural resources entrusted to us in a manner that is sustainable, equitable, accessible, and inclusive of all populations.
Draft Strategic Goal 1 and Objectives
Institutionalize environmental justice within the Department and establish accountability for decisionmakers and practitioners as they apply environmental justice principles in policies, budgeting, decisions, activities, and processes.
1.1 Increase our employees' awareness and understanding of environmental justice.
1.2 Solicit resources, support, and commitment from leadership to cultivate an enabling environment for their employees to advance environmental justice.
1.3 Expand our employees' capacity and skillsets to build their ability to advance environmental justice through their work.
1.4 Develop a structure to ensure that employees at all levels are held accountable for advancing environmental justice.
Draft Strategic Goal 2 and Objectives
Engage early and often with communities and Tribal Nations to support meaningful involvement, equitable decisions, better inform the Department's activities, and proactively address/involve environmental justice concerns.
2.1 Expand the Department's capacity to maintain and deepen relationships with communities and Tribal Nations.
2.2 Build skills and capacity among our employees to deliver intentional, anticipatory, respectful engagement.
2.3 Remove barriers and provide resources and opportunities for communities and Tribal Nations to engage with the Department.
2.4 Maintain and model an open and ongoing dialogue with communities and Tribal Nations about how their input is incorporated into our decisions.
Draft Strategic Goal 3 and Objectives
Identify, prevent, and mitigate environmental injustices, including adverse human health or environmental effects, in collaboration and coordination with communities and other partners.
3.1 Adjust actions, policies, programs, and program implementation to better account for environmental justice considerations to prevent injustices.
3.2 Actively address the impacts of historical environmental and health injustices.
3.3 Employ a whole-of-government approach to maximize benefits to and reduce burdens on communities and Tribal Nations.
3.4 Build new and deepen existing partnerships to both broaden and localize our engagement.
Draft Strategic Goal 4 and Objectives
Leverage funding, training, educational and professional opportunities to empower efforts to build and sustain healthy, environmentally, and economically sound communities.
4.1 Identify and remove barriers that prevent communities and Tribal Nations from accessing and executing opportunities.
4.2 Expand and improve technical assistance to communities and Tribal Nations.
4.3 Create new and amend existing opportunities for outreach, communication, and accessibility for communities and Tribal Nations, and aim to increase available funding when possible.
4.4 Work with communities and Tribal Nations to identify and deliver desired opportunities.
Draft Strategic Goal 5 and Objectives
Apply environmental justice principles in the Department's production, collection, and use of data, science, and research to benefit communities and better inform our decision making.
5.1 Identify data gaps and address those gaps.
5.2 Employ diverse sources, methodologies, and perspectives, including Indigenous Knowledges, across our activities, and apply related findings in the Department's decision-making.
5.3 Make the Department's research/data available and accessible to communities and Tribal Nations, as appropriate.
5.4 Abide by respectful, ethical research and data practices, including confidentiality and data sovereignty.

Eric Werwa,
Deputy Assistant Secretary—Policy and Environmental Management, Department's Environmental Justice Officer.

[FR Doc. 2023-24937 Filed 11-13-23; 8:45 am]

BILLING CODE 4334-63-P